DEPARTMENT OF THE INTERIOR

Fish and Wildlife Service

Draft Recovery Plan for the Carson Wandering Skipper (Pseudocopaeodes eunus obscurus)

AGENCY: U.S. Fish and Wildlife Service, Interior.

ACTION: Notice of document availability for review and comment.

SUMMARY: The U.S. Fish and Wildlife Service (“we”) announces the availability of the Draft Recovery Plan for the Carson Wandering Skipper for public review and comment.

DATES: Comments on the draft recovery plan must be received on or before May 31, 2006.

ADDRESSES: Copies of the draft recovery plan are available for inspection, by appointment, during normal business hours at the following location: U.S. Fish and Wildlife Service, Nevada Fish and Wildlife Office, 1340 Financial Boulevard, Suite 234, Reno, Nevada 89502 (telephone: 775-861-6300). Requests for copies of the draft recovery plan and written comments and materials regarding this plan should be addressed to Robert Williams, Field Supervisor, at the above Reno address. An electronic copy of the draft recovery plan is also available at: http://endangered.fws.gov/recovery/index.html#plans.

FOR FURTHER INFORMATION CONTACT: Marcy Haworth, Fish and Wildlife Biologist, at the above Reno address.

SUPPLEMENTARY INFORMATION:

Background

Restoring endangered or threatened animals and plants to the point where they are again secure, self-sustaining members of their ecosystems is a primary goal of our endangered species program. The Endangered Species Act (16 U.S.C. 1531 et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the ESA requires that public notice and an opportunity for public review and comment be provided during recovery plan development in fulfillment of this requirement. We will consider all information presented during the public comment period prior to approval of each new or revised recovery plan. Substantive technical comments may result in changes to the recovery plan. Substantive comments regarding recovery plan implementation may not necessarily result in changes to the recovery plan, but will be forwarded to appropriate Federal or other entities so that they can take these comments into account during the course of implementing recovery actions. Individual responses to comments will not be provided.

The Carson wandering skipper (Pseudocopaeodes eunus obscurus) is a small butterfly in the subfamily Hesperiinae (grass skippers). This subspecies is federally listed as endangered. Only three extant populations are known from Washoe County and Douglas County, Nevada, and Lassen County, California. A fourth known population of the subspecies, from Carson City, Nevada, is considered extirpated as of 1998.

The goal for this subspecies is to recover it to point where downlisting and eventually delisting would be appropriate. Recovery criteria include protection and management in perpetuity of the existing populations without downward population trends, development and implementation of adaptive management plans, and discovery or establishment of one or more additional populations.

Public Comments Solicited

We solicit written comments on the draft recovery plan described. All comments received by the date specified above will be considered in developing a final recovery plan.

Authority

The authority for this action is section 4(f) of the Endangered Species Act, 16 U.S.C. 1533(f).

Dated: December 8, 2005.
Steve Thompson,
Manager, California/Nevada Operations Office, U.S. Fish and Wildlife Service.

[FR Doc. E6-2964 Filed 3-1-06; 8:45 am]

BILLING CODE 4310-55-P